DEPARTMENT OF HOMELAND SECURITY

Coast Guard

[Docket No. USCG-2014-0941]

Port Access Route Study: In the Chukchi Sea, Bering Strait and Bering Sea

AGENCY: Coast Guard, DHS.

ACTION: Notice of study availability; request for comment.

SUMMARY: The Seventeenth Coast Guard District has concluded the Port Access Route Study (PARS) of the Chukchi Sea, Bering Strait and Bering Sea and announces the availability of the report. The Coast Guard is also requesting comments on the preliminary findings contained in the report. Any comments received will be reviewed and considered as the Coast Guard deliberates advancing the recommendations from this study forward into a domestic rulemaking or international agreement.

DATES: Comments must be submitted to the online docket via http://www.regulations.gov, or reach the Docket Management Facility, on or before May 30, 2017.

ADDRESSES: You may submit comments identified by docket number USCG-2014-0941 using the Federal eRulemaking Portal at http://www.regulations.gov. See the “Public Participation and Request for Comments” portion of the SUPPLEMENTARY INFORMATION section for further instructions on submitting comments.

FOR FURTHER INFORMATION CONTACT: For information about this document call or email Mr. David Seris, Seventeenth Coast Guard District, telephone (907) 463-2267, email David.M.Seris@uscg.mil, or LT Kody Stitz, Seventeenth Coast Guard District, telephone (907) 463-2270; email Kody.J.Stitz@uscg.mil.

SUPPLEMENTARY INFORMATION:

Public Participation and Comments

We encourage you to submit comments (or related material) on this notice of study availability. We will consider all submissions and may adjust our final action based on your comments. If you submit a comment, please include the docket number for this notice, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions. Documents mentioned in this notice and all public comments, are in our online docket at http://www.regulations.gov and can be viewed by following that Web site's instructions. Additionally, if you go to the online docket and sign up for email alerts, you will be notified when comments are posted or a final rule is published.

We accept anonymous comments. All comments received will be posted without change to http://www.regulations.gov and will include any personal information you have provided. For more about privacy and the docket, you may review a Privacy Act notice regarding the Federal Docket Management System in the March 24, 2005, issue of the Federal Register (70 FR 15086).

Viewing Documents and Comments

The final report and all public comments are in our online docket at http://www.regulations.gov and can be viewed by following that Web site's instructions. The digital size of the final report is in excess of 100 MB which may prevent some people from being able to download and view it. For those unable to download the digital file at http://www.regulations.gov, please contact the person listed in the FOR FURTHER INFORMATION CONTACT section to request a digital file or a printed copy of the report.

Discussion

The Coast Guard announced a port access route study of the Bering Strait in the Federal Register on November 8, 2010 (75 FR 68568). The purpose of the PARS was to solicit public comments on whether a vessel routing system was needed and if it could increase vessel safety in the area. At that time the Coast Guard did not propose a specific vessel routing system, but instead sought more general comments about whether a vessel routing system was needed or advisable in the study area. The Coast Guard received twenty five comments, and after reviewing them, determined that a specific vessel route needed to be proposed so more specific comments and concerns could be gathered and evaluated before determining if a routing system would be beneficial. The Coast Guard further determined that the study area should include a larger geographic area than was initially studied before finalizing the study and publishing the results.

On December 5, 2014 the Coast Guard announced via the Federal Register (79 FR 72157) its intent to continue the PARS started in 2010 by expanding the study area to include most of the Bering Sea, proposing a two-way route as a vessel routing system and requesting additional public comments. The Coast Guard's goal of the study remained the same in that the study was focused on gathering factual and relevant information to aid the Coast Guard in reducing the risk of marine casualties and increasing the efficiency of vessel traffic in the region. The Coast Guard received twenty nine comments in response to this request for comment and after reviewing them, developed the PARS report. The preliminary findings in this report include some changes to previous proposals on which the Coast Guard solicited comments. Additional waypoints have been added to the proposed route, and Areas to Be Avoided (ATBA's) have been proposed as additional routing measures. Upon review of any public comments received in response to this notice of study availability, the Coast Guard may adjust the proposed route and ATBAs accordingly before submitting a final proposal to the International Maritime Organization for formal adoption.

This notice is issued under authority of 33 U.S.C 1223(c) and 5 U.S.C. 552(a).

Dated: January 17, 2017.
M. F. McAllister,
Rear Admiral, U.S. Coast Guard, Commander, Seventeenth Coast Guard District.

[FR Doc. 2017-03771 Filed 2-24-17; 8:45 am]

BILLING CODE 9110-04-P